DEPARTMENT OF COMMERCE

International Trade Administration

Organizing “Green Manufacturing Day” for U.S. Businesses; Comment Request

ACTION: Notice and request for comments.

SUMMARY: The International Trade Administration proposes to organize a “Green Manufacturing Day”, aimed at enhancing public-private interaction in the field of sustainable manufacturing. This notice seeks public input on areas of interest for discussion at the proposed “Green Manufacturing Day”.

DATES: Submit comments no later than 30 days after the date of this notice.

ADDRESSES: Address all comments concerning this notice and requests to participate to William McElnea, U.S. Department of Commerce, Room 2213, 1401 Constitution Ave. NW., Washington, DC 20230 (or via the Internet at william.mcelnea@mail.doc.gov).

FOR FURTHER INFORMATION CONTACT: William McElnea, 202-482-2831.

SUPPLEMENTARY INFORMATION: Sustainable manufacturing has garnered increasing attention among the manufacturing industry as firms have recognized its cost-effectiveness and profitability. For the purposes of this notice, “sustainable manufacturing” is defined as the creation of manufactured products that use processes that are non-polluting, conserve energy and natural resources, are economically sound, and safe for employees, communities, and consumers. At this early stage in sustainable manufacturing's development, increased public-private interaction can be an effective means for government and industry to (a) identify the opportunities and challenges faced by manufacturers in pursuing sustainable production practices and (b) promote capacity-building among individual firms and industry sectors as a whole.

The purpose of the proposed “Green Manufacturing Day”, tentatively scheduled for September 2007, will be to: (1) Disseminate and promote best business practices in sustainable manufacturing, (2) assist small-and-medium-sized enterprises in identifying and implementing practical sustainable manufacturing solutions, (3) provide information on relevant emerging technologies, (4) educate participants on federal government efforts to promote sustainable manufacturing, and (5) provide information on international sustainable manufacturing initiatives, projects, and opportunities. The event will include presenters/speakers from a variety of stakeholder groups (i.e. private sector, government and academia) on a variety of topics relating to sustainable manufacturing.

Topic areas covered may include, but are not limited to, industrial recycling, natural resource conservation, water supply and waste-water treatment, solid-waste management, hazardous waste management, environmental assessment, environmental accounting, lean and clean manufacturing, regulatory compliance, renewable energy, remanufacturing, refurbishing/reconditioning, environmental technology research and development, and air pollution control.

In preparation for the proposed event, the U.S. Department of Commerce is requesting feedback from the public on the following:

• Topic areas of interest to U.S. businesses with regard to sustainable manufacturing (responses may reference those topic areas mentioned above or other related topic areas not mentioned);

• The types of information U.S. businesses seek in these topic areas (e.g. best and/or most cost-effective practices, government policies/programs, new technologies, international efforts/opportunities, metrics used for evaluation, etc.) Specific feedback on the following will also be welcome:

• Sustainable manufacturing implementation issues affecting small and medium-sized enterprises;

• Emerging technologies for clean manufacturing that are technologically-proven, but are not yet widely recognized or used;

• Federal government practices or voluntary programs that have been particularly useful in promoting clean or sustainable manufacturing or business practices.

Dated: May 22, 2007.
William McElnea,
International Economist, Office of Trade Policy Analysis.

[FR Doc. E7-10249 Filed 5-25-07; 8:45 am]

BILLING CODE 3510-DR-P